DEPARTMENT OF ENERGY

Federal Energy Regulatory Commission

[Docket No. ER01-1490-000]

New York State Reliability Council; Notice of Filing

March 21, 2001.

Take notice that on March 9, 2001, the New York State Reliability Council L.L.C. (NYSRC) tendered for filing with the Federal Energy Regulatory Commission (Commission) an informational filing advising the Commission that the NYSRC has determined that the current Installed Capacity Requirement (ICR) for the New York Control Area (NYCA) should be retained for the Capability Year beginning on May 1, 2001 and ending on April 30, 2002.

Any person desiring to be heard or to protest such filing should file a motion to intervene or protest with the Federal Energy Regulatory Commission, 888 First Street, N.E., Washington, DC 20426, in accordance with Rules 211 and 214 of the Commission's Rules of Practice and Procedure (18 CFR 385.211 and 385.214). All such motions and protests should be filed on or before March 30, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-7458 Filed 3-23-01; 8:45 am]

BILLING CODE 6717-01-M